DEPARTMENT OF THE INTERIOR

Bureau of Land Management

[LLNVE03000 L12200000.DU0000.241A; 11-08807; MO# 4500018892; TAS:14X1109]

Notice of Intent To Prepare an Amendment to the 1985 Wells Resource Management Plan for Recreation in the Spruce Mountain Area and Associated Environmental Assessment, Nevada

AGENCY: Bureau of Land Management, Interior.

ACTION: Notice of Intent.

SUMMARY: In compliance with the National Environmental Policy Act of 1969 (NEPA), as amended, and the Federal Land Policy and Management Act of 1976, as amended, the Bureau of Land Management (BLM) Wells Field Office, Elko, Nevada, is proposing to amend the 1985 Wells Resource Management Plan (RMP) for recreation in the Spruce Mountain Area and prepare an associated Environmental Assessment (EA). By this notice, the BLM is announcing the beginning of the scoping process to solicit public comments and identify issues associated with this proposed action.

DATES: This notice initiates the public scoping process for the amendment to the Wells RMP and associated EA. Comments on issues may be submitted until August 29, 2011. The date(s) and location(s) of any scoping meeting(s) to be held within the 45-day scoping period, will be announced at least 30 days in advance through local news media outlets, mailings to interested individuals, and on the BLM Elko Web site at: http://www.blm.gov/nv/st/en/fo/elko_field_office.html. The BLM will provide additional opportunities for public participation and comment upon publication of the EA. Comments may be submitted in writing to the address listed below. Associated planning documents may be viewed on the BLM Elko Web site, or may be requested in a printed or electronic copy format by contacting the Wells Field Office at the address and phone number listed below.

ADDRESSES: You may submit comments on issues and planning criteria related to the proposed amendment to the Wells RMP and associated EA by any of the following methods:

• E-mail: spruce_wells_EA@blm.gov.

• Fax: (775) 753-0255.

• Mail: Bureau of Land Management, Spruce Mountain Area Planning, Wells Field Office, 3900 E. Idaho Street, Elko, Nevada 89801.

Documents pertinent to this proposal may be examined at the Elko District Office.

FOR FURTHER INFORMATION CONTACT: For further information and/or to have your name added to a mailing list contact Tamara Hawthorne, Outdoor Recreation Planner, BLM, 3900 E. Idaho Street, Elko, NV 89801, phone (775) 753-0356, or e-mail tamara_hawthorne@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This plan amendment and associated EA will address recreation management in the Spruce Mountain Area, which encompasses 464,217 acres of public land that is within the Nevada Department of Wildlife Hunt Unit 105. The BLM proposes to change the off-highway vehicle (OHV) designation within the Spruce Mountain Area from the existing “open” designation of unrestricted cross-country travel for OHV use to a “limited” OHV designation. A total of 1,799 miles of roads have been inventoried within the Spruce Mountain Area. A designation for OHV use in the area would be limited to only those routes that are designated through this process, but could include the following types of limitations: Mode of travel, time or season of use, vehicle type, and administrative use. A Notice of Travel Restriction to Off Road Vehicles is in effect for this area until new land use planning is completed and a record of decision is issued (71 FR 77:20725, April 21, 2006). The BLM is also proposing to designate the Spruce Mountain Area as an Extensive Recreation Management Area (ERMA), which will also be evaluated in the EA. Management actions in an ERMA would allow for motorized and non-motorized recreation opportunities, while also interpreting and protecting valuable cultural sites; protecting crucial mule deer and sage grouse habitat; and providing for visitor health and safety. The environmental analysis will include other recreation management issues that relate to cultural, historic, and wildlife resources.

The purpose of the public scoping process is to determine relevant issues that will influence the scope of the environmental analysis, including alternatives, and guide the process for developing the EA. At present, the BLM has identified the following issues: Recreation; historic mining sites; wildlife habitat fragmentation; abandoned mine lands; public safety; and existing grazing uses.

The BLM will use and coordinate the NEPA process with the public involvement process under Section 106 of the National Historic Preservation Act (16 U.S.C. 470f) as provided for in 36 CFR 800.2(d)(3). Native American Tribal consultations will be conducted in accordance with policy, and Tribal concerns will be given due consideration, including impacts on Indian trust assets. Federal, state, and local agencies, along with other stakeholders that may be interested or affected by the BLM's decision on this project are invited to participate in the scoping process and, if eligible, may request or be requested by the BLM to participate as a cooperating agency.

The BLM will use an interdisciplinary approach to develop the plan in order to consider the variety of resource issues and concerns identified. Specialists with expertise in the following disciplines will be involved in the planning process: Rangeland management, minerals and geology, forestry, outdoor recreation, archaeology, paleontology, wildlife and fisheries, lands and realty, hydrology, soils, sociology and economics.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2

Bryan K. Fuell,
Manager, Wells Field Office.

[FR Doc. 2011-17787 Filed 7-14-11; 8:45 am]

BILLING CODE 4310-HC-P